DEPARTMENT OF THE INTERIOR

Bureau of Land Management

[PO4820000251]

Record of Decision and Approved Resource Management Plan Amendment for the Rough Hat Clark Solar Project in Clark County, NV

AGENCY: Bureau of Land Management, Interior.

ACTION: Notice of availability.

SUMMARY: In compliance with the Federal Land Policy and Management Act of 1976, as amended (FLPMA), the Bureau of Land Management (BLM) announces the availability of the Record of Decision (ROD) and Approved Resource Management Plan Amendment (RMPA) for the Rough Hat Clark Solar Project located in Clark County, Nevada. The ROD/Approved RMPA constitutes the final decision of the BLM as approved by the Department of the Interior (DOI).

ADDRESSES: The ROD is available online at https://eplanning.blm.gov/eplanning-ui/project/2019992/510. Printed copies of the ROD are available for public inspection at the Southern Nevada District Office, Las Vegas Field Office, 4701 N. Torrey Pines Drive, Las Vegas, Nevada 89130, or can be provided upon request by contacting Jessica Headen, Project Manager, telephone (702) 515-5206, address Bureau of Land Management, 4701 N. Torrey Pines Drive, Las Vegas, NV 89130.

The Protest Resolution Report is available at: https://www.blm.gov/programs/planning-and-nepa/public-participation/protest-resolution-reports.

FOR FURTHER INFORMATION CONTACT: Jessica Headen, Project Manager, telephone (702) 515-5206, address Bureau of Land Management, 4701 N. Torrey Pines Drive, Las Vegas, NV 89130.; email jheaden@blm.gov. Individuals in the United States who are deaf, deafblind, hard of hearing, or have a speech disability may dial 711 (TTY, TDD, or TeleBraille) to access telecommunications relay services for contacting Ms. Headen. Individuals outside the United States should use the relay services offered within their country to make international calls to the point-of-contact in the United States.

SUPPLEMENTARY INFORMATION: The applicant, Candela Renewables, LLC, submitted a right-of-way (ROW) application to the BLM Las Vegas Field Office for the Rough Hat Clark Solar Project (Project), a 400-megawatt (MW) solar photovoltaic power generating facility and 700 MW of battery energy storage system (BESS) on approximately 2,469 acres of BLM-managed public land located in the Pahrump Valley in Clark County, Nevada, southeast of the town of Pahrump and approximately 38 miles west of Las Vegas. The Project would include a solar field, BESS, and a 230 kV transmission line from the solar facility to the GridLiance Trout Canyon Substation.

The Department of the Interior has approved the BLM's decision to issue a ROW grant for the Project as described in the Proposed RMPA/Final Environmental Impact Statement (EIS) as the Resources Integration Alternative. The ROD documents the BLM's decision to authorize the construction, operation, maintenance, and decommissioning of the 400 MW photovoltaic solar power generating facility with battery energy storage on BLM-managed land in Clark County, Nevada. Approval of this ROW constitutes the final decision of the Department of the Interior and is not subject to appeal under Departmental regulations at 43 CFR part 4.

There were no changes to the Approved RMPA from the Proposed RMPA/Final EIS, which was published on November 1, 2024. The Approved RMPA changes the existing 1998 Las Vegas Resource Management Plan to reclassify the Project area from Visual Resource Management (VRM) Class III to VRM Class IV.

The BLM provided the Proposed RMPA/Final EIS for public protest on November 1, 2024, for a 30-day protest period and received seven valid protests. The BLM Director resolved all protests. Responses to protest issues were compiled and documented in a Protest Resolution Report (see ADDRESSES).

The BLM provided the Proposed RMPA/Final EIS to the Governor of Nevada for a 60-day Governor's consistency review on November 1, 2024. The Governor's Office replied on December 17, 2024, confirming that the proposed RMPA is consistent with State and local plans, policies, and programs. The Governor's Office had no objections to the approval of the RMPA.

The DOI's Principal Deputy Assistant Secretary for Land and Minerals Management signed the ROD/Approved RMP Amendment, which is in effect upon signature.

(Authority: 40 CFR 1506.6 (2022); 43 CFR 1610.5-1)

Jon K. Raby,
Nevada State Director.

[FR Doc. 2025-01231 Filed 1-16-25; 8:45 am]

BILLING CODE 4331-21-P